DEPARTMENT OF TRANSPORTATION

Federal Aviation Administration

[Summary Notice No. 2019-16]

Petition for Exemption; Summary of Petition Received; Bell Helicopter Textron, Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 28, 2019.

ADDRESSES: Send comments identified by docket number FAA-2019-0104 using any of the following methods:

• Federal eRulemaking Portal: Go to http://www.regulations.gov and follow the online instructions for sending your comments electronically.

• Mail: Send comments to Docket Operations, M-30; U.S. Department of Transportation, 1200 New Jersey Avenue SE, Room W12-140, West Building, Ground Floor, Washington, DC 20590-0001.

• Hand Delivery or Courier: Take comments to Docket Operations in Room W12-140 of the West Building, Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman, (202) 683-7788, Office of Rulemaking, Federal Aviation Administration, 800 Independence Avenue SW, Washington, DC 20591.

This notice is published pursuant to 14 CFR 11.85.

Issued in Washington, DC, on April 30, 2019.
Lirio Liu,
Executive Director, Office of Rulemaking.

Petition for Exemption

Docket No.: FAA-2019-0104.

Petitioner: Bell Helicopter Textron, Inc.

Section(s) of 14 CFR Affected: §§ 61.113(a) & (b); 91.119(c); 91.121; & 91.151(a).

Description of Relief Sought: The proposed exemption, if granted, would allow the petitioner to operate the Model APT70 vertical takeoff and landing unmanned aircraft system (UAS) for research and development purposes. The UAS can be configured for a maximum takeoff weight of 320 lbs.

Bell intends to operate the APT70 UAS in Class G airspace. The intended area of flight operations is in north-central Texas. In Palo Pinto County, ground-based VOs will be used and the UAV will be operated with an altitude envelope of no greater than 400 ft. above ground level (AGL). Flight testing will be extended to Choctaw Nation where VO(s) will be aboard a chase aircraft and the UAV will be operated with a maximum altitude of 1,200 ft AGL. All proposed operations will occur within visual line of site of the pilot or visual observer.

This petition is similar to, and extends from, Exemption No. 17783 (Regulatory Docket No. FAA-2017-0604) granted to Bell on March 29, 2018.

[FR Doc. 2019-09253 Filed 5-6-19; 8:45 am]

BILLING CODE 4910-13-P